DEPARTMENT OF LABOR

Employment and Training Administration

[TA-W-70,547]

Acxiom Corporation, Including Workers Whose Wages Are Reported Through May and Spey Information Security Team, Chicago, IL; Amended Certification Regarding Eligibility To Apply for Worker Adjustment Assistance

In accordance with Section 223 of the Trade Act of 1974, as amended (“Act”), 19 U.S.C. 2273, the Department of Labor issued a Certification of Eligibility to Apply for Worker Adjustment Assistance on October 23, 2009, applicable to workers of Acxiom Corporation, Information Security Team, Downers Grove, Illinois. The notice was published in the Federal Register on November 17, 2009 (74 FR 59254).

At the request of the State Agency, the Department reviewed the certification for workers of the subject firm. The workers provide security communication and training, resource coordination and security compliance services for external clients.

New information shows that the correct location of the Information Security Team was located at the Chicago Illinois client location not Downers Grove, Illinois as stated in the certification notice issued for the subject firm. Information also shows that some workers separated from employment at the subject firm had their wages reported under a separated unemployment insurance (UI) tax account through May and Speh, a wholly owned subsidiary of Acxiom Corporation.

Accordingly, the Department is amending this certification to properly reflect these matters.

The intent of the Department's certification is to include all workers of the subject firm who were adversely affected by the acquisition of security communication and training, resource coordination and security compliance services from India.

The amended notice applicable to TA-W-70,547 is hereby issued as follows:

All workers of Acxiom Corporation, including workers whose UI wages are reported through May and Speh, Information Security Team, Chicago, Illinois, who became totally or partially separated from employment on or after May 17, 2008, through September 30, 2011, and all workers in the group threatened with total or partial separation from employment on date of certification through two years from the date of certification, are eligible to apply for adjustment assistance under Chapter 2 of Title II of the Trade Act of 1974, as amended.

Signed in Washington, DC, this 26th day of January 2010.
Del Min Amy Chen,
Certifying Officer, Division of Trade Adjustment Assistance.

[FR Doc. 2010-4244 Filed 3-1-10; 8:45 am]

BILLING CODE 4510-FN-P